DEPARTMENT OF LABOR

Employment and Training Administration

[TA-W-37,411 and 411A]

The Monet Group, Incorporated, East Providence, RI and New York, NY; Amended Certification Regarding Eligibility to Apply for Worker Adjustment Assistance

In accordance with Section 223 of the Trade Act of 1974 (19 U.S.C. 2273) the Department of Labor issued a Certification of Eligibility to Apply for Worker Adjustment Assistance on March 28, 2000, applicable to workers of the Monet Group, Incorporated East Providence, Rhode Island and New York, New York. The notice was published in the Federal Register on April 21, 2000 (65 FR 21473).

At the request of the State agency, the Department reviewed the certification for workers of the subject firm. The workers are engaged in the production of fashion jewelry. New information received from the company shows that Liz Caliborne Incorporated, through a newly formed wholly owned subsidiary, Monet International, Incorporated, purchased the assets of The Monet Group, Incorporated as of July 26, 2000. Information also shows that workers separated after July 26, 2000 from employment at the subject firm, had their wages reported under two separate unemployment insurance (UI) tax account; Monet Group, Incorporated and Monet International, Incorporated.

Accordingly, the Department is amending the certification to properly reflect this matter.

The amended notice applicable to TA-W-37,411 is hereby issued as follows:

“All workers of Monet Group, Incorporated, now known as Monet International, Incorporated, a subsidiary of Liz Caliborne, Incorporated, East Providence, Rhode Island (TA-W-37,411) and New York, New York (TA-W-37,411A) who became totally or partially separated from employment on or after May 5, 2000 through March 28, 2002 are eligible to apply for adjustment assistance under Section 223 of the Trade Act of 1974.”

Signed at Washington, D.C. This 4th day of October, 2000.
Linda G. Poole,
Certifying Officer, Division of Trade Adjustment Assistance.

[FR Doc. 00-26718 Filed 10-17-00; 8:45 am]

BILLING CODE 4510-30-M